DEPARTMENT OF LABOR

Employment and Training Administration

20 CFR Part 686

[DOL Docket No. ETA-2019-0006]

RIN 1205-AB96

Procurement Roles and Responsibilities for Job Corps Contracts

AGENCY: Employment and Training Administration, Labor.

ACTION: Withdrawal of direct final rule.

SUMMARY: Due to the receipt of two significant adverse comments, the Department of Labor (Department) is withdrawing the August 29, 2019, direct final rule (DFR) that would have made two procedural changes to its Workforce Innovation and Opportunity Act (WIOA) Job Corps regulations. The changes would have enabled the Secretary of Labor to delegate procurement authority as it relates to the development and issuance of requests for proposals for the operation of Job Corps centers, outreach and admissions, career transitional services, and other operational support services. This action would have aligned regulatory provisions with the relevant WIOA statutory language to provide greater flexibility for internal operations and management of the Job Corps program.

DATES: Effective October 24, 2019, the direct final rule published at 84 FR 45403 on August 29, 2019, is withdrawn.

FOR FURTHER INFORMATION CONTACT: Heidi M. Casta, Deputy Administrator, Office of Policy Development and Research, U.S. Department of Labor, 200 Constitution Avenue NW, Room N-5641, Washington, DC 20210; telephone (202) 693-3700 (this is not a toll-free number).

Individuals with hearing or speech impairments may access the telephone number above via TTY by calling the toll-free Federal Information Relay Service at 1-800-877-8339.

SUPPLEMENTARY INFORMATION: In the DFR, the Department stated that if a significant adverse comment was submitted by September 30, 2019, the agency would publish a timely withdrawal in the Federal Register informing the public that this DFR will not take effect. The Department received two significant adverse comments prior to the close of the comment period and, therefore, is withdrawing the direct final rule. The Department will address the comments in a subsequent final action based upon the proposed action also published in the Federal Register on August 29, 2019 (84 FR 45449).

Accordingly, effective October 24, 2019, the amendment to 20 CFR part 686 published in the Federal Register on August 29, 2019 (84 FR 45449) is withdrawn.

John P. Pallasch,
Assistant Secretary for Employment and Training, Labor.

[FR Doc. 2019-23238 Filed 10-23-19; 8:45 am]

BILLING CODE 4510-FT-P